DEPARTMENT OF AGRICULTURE

Forest Service

Lake Tahoe Basin Federal Advisory Committee

AGENCY: Forest Service, USDA

ACTION: Notice of meeting.

SUMMARY: The Lake Tahoe Basin Federal Advisory Committee will hold a meeting on January 25, 2002, at the South Lake Tahoe City Council Chambers, 1052 Tata Lane, South Lake Tahoe, CA. This Committee, established by the Secretary of Agriculture on December 15, 1998, (64 FR 2876) is chartered to provide advice to the Secretary on implementing the terms of the Federal Interagency Partnership on the Lake Tahoe Region and other matters raised by the Secretary.

DATES: The meeting will be held January 25, 2002, beginning at 9 a.m. and ending at 4:30 p.m.

ADDRESSES: The meeting will be held at the South Lake Tahoe City Council Chambers, 1052 Tata Lane, South Lake Tahoe, CA.

FOR FURTHER INFORMATION CONTACT: Maribeth Gustafson or Jeannie Stafford, Lake Tahoe Basin Management Unit, Forest Service, 870 Emerald Bay Road Suite 1, South Lake Tahoe, CA 96150, (530) 573-2642.

SUPPLEMENTARY INFORMATION: The committee will meet jointly with the Lake Tahoe Basin Executives Committees. Items to be covered on the agenda include a review of the Sierra Nevada Forest Plan Amendment, Success of Committee advice, Air Resources Board presentation, and update by HUD on the Chodo project, a long term urban lot strategy, status of the Forest Service land acquisition program at Lake Tahoe, and public comment. All Lake Tahoe Basin Federal Advisory Committee meetings are open to the public. Interested citizens are encouraged to attend. Issues may be brought to the attention of the Committee during the open public comment period at the meeting or by filing written statements with the secretary for the Committee before or after the meeting. Please refer any written comments to the Lake Tahoe Basin Management Unit at the contact address stated above.

Dated: December 21, 2001.
Maribeth Gustafson,
Forest Supervisor.

[FR Doc. 01-32139 Filed 12-31-01; 8:45 am]

BILLING CODE 3410-11-M